DEPARTMENT OF STATE

[Public Notice: 10532]

In the Matter of the Designation of Jama'at Nusrat al-Islam wal-Muslimin (JNIM), aka Jamaat Nosrat al-Islam wal-Mouslimin, aka Group for the Support of Islam and Muslims, aka Group to Support Islam and Muslims, aka GSIM, aka GNIM, aka Nusrat al-Islam wal-Muslimeen, as a Specially Designated Global Terrorist

Acting under the authority of and in accordance with section 1(b) of Executive Order 13224 of September 23, 2001, as amended by Executive Order 13268 of July 2, 2002, and Executive Order 13284 of January 23, 2003, I hereby determine that the person known as Jama'at Nusrat al-Islam wal-Muslimin (JNIM), also known as Jamaat Nosrat al-Islam wal-Mouslimin, also known as Group for the Support of Islam and Muslims, also known as Group to Support Islam and Muslims, also known as GSIM, also known as GNIM, also known as Nusrat al-Islam wal-Muslimeen, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: July 15, 2018.
Michael R. Pompeo,
Secretary of State.

[FR Doc. 2018-19274 Filed 9-5-18; 8:45 am]

BILLING CODE 4710-AD-P